DEPARTMENT OF COMMERCE

National Oceanic and Atmospheric Administration

RIN 0648-XB08

Marine Mammals; File Nos. 808-1735 and 1058-1733

AGENCY: National Marine Fisheries Service (NMFS), National Oceanic and Atmospheric Administration (NOAA), Commerce.

ACTION: Notice; issuance of permits.

SUMMARY: Notice is hereby given that Andrew Read, Ph.D., Duke University Marine Laboratory, 135 Pivers Island Road, Beaufort, North Carolina 28516 and Mark Baumgartner, Ph.D., MS #33, Woods Hole Oceanographic Institute, Woods Hole, Massachusetts, 02543 have been issued permits to conduct research on humpback whales (Megaptera novaeangliae), blue whales (Balaenoptera musculus), fin whales (Balaenoptera physalus), sei whales (Balaenoptera borealis), and Antarctic minke whales (Balaenoptera bonaerensis).

ADDRESSES: The permit and related documents are available for review upon written request or by appointment in the following office(s):

Permits, Conservation and Education Division, Office of Protected Resources, NMFS, 1315 East-West Highway, Room 13705, Silver Spring, MD 20910; phone (301)713-2289; fax (301)427-2521;Southwest Region, NMFS, 501 West Ocean Blvd., Suite 4200, Long Beach, CA 90802-4213; phone (562)980-4001; fax (562)980-4018; and Northeast Region, NMFS, One Blackburn Drive, Gloucester, MA 01930-2298; phone (978)281-9300; fax (978)281-9394.

FOR FURTHER INFORMATION CONTACT: Amy Hapeman or Jaclyn Daly, (301)713-2289.

SUPPLEMENTARY INFORMATION: On April 7, 2004, notice was published in the Federal Register (69 FR 18357) that requests for scientific research permits to take the species identified above had been submitted by the above-named individuals. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 808-1735, issued to Dr. Andrew Read, allows for the take of humpback, blue, fin, sei, and Antarctic minke whales in the Southern Ocean to examine their foraging behavior relative to krill patches. The permit authorizes the close approach of up to 295 humpback whales and 65 of each species of blue, fin, sei, and Antarctic minke whales annually during vessel surveys for photo-identification, behavioral observation, tracking, and incidental harassment. Of these animals, up to 45 humpbacks and 15 of each species of blue, fin, sei, and Antarctic minke whales may be suction-cup tagged annually during surveys. The permit is issued for five years.

Permit No. 1058-1733, issued to Dr. Baumgartner, allows for the take of baleen whalesto examine aspects of foraging and diving behaviors in the Southern Ocean as well as to determine the overlap of diving behaviors with the vertical structure of fixed fishing gear in the North Atlantic Ocean. In the Southern Ocean, researchers may closely approach up to 324 of each species of humpback, blue, fin, sei, and Antarctic minke whales annually during vessel surveys for photo-identification, behavioral observation, tracking, and incidental harassment. Of these animals, up to 108 of each species may be suction-cup tagged annually during surveys. In the North Atlantic, researchers may closely approach up to 324 of each species of humpback, fin, and sei whales annually during vessel surveys for photo-identification, behavioral observation, tracking, and incidental harassment. Of these animals, up to 108 of each species may be suction-cup tagged annually during surveys. The permit is issued for five years.

In compliance with the National Environmental Policy Act of 1969 (42 U.S.C. 4321 et seq.), an environmental assessment was prepared analyzing the effects of the permitted activities. After a Finding of No Significant Impact, the determination was made that it was not necessary to prepare an environmental impact statement.

Issuance of the permits, as required by the ESA, was based on a finding that such permits: (1) Were applied for in good faith; (2) will not operate to the disadvantage of such endangered species; and (3) are consistent with the purposes and policies set forth in section 2 of the ESA.

Dated: June 27, 2007.
P. Michael Payne,
Chief, Permits, Conservation and Education Division, Office of Protected Resources, National Marine Fisheries Service.

[FR Doc. E7-12873 Filed 7-2-07; 8:45 am]

BILLING CODE 3510-22-S